DEPARTMENT OF LABOR

Employment and Training Administration

[TA-W-40,513 and TA-W-40,513A]

American Power Conversion, East Providence, RI and American Power Conversion West Warwick, RI; Notice of Termination of Investigation

Pursuant to section 221 of the Trade Act of 1974, an investigation was initiated on December 31, 2001 in response to a worker petition, which was filed on behalf of workers at American Power Conversion, East Providence and West Warwick, Rhode Island.

The workers' petition regarding the investigation is invalid. The petitioners are not company officials, nor were the petitions filed by three workers at each of the subject firm locations. Consequently, further investigation in this case would serve no purpose, and the investigation has been terminated.

Signed in Washington, DC, this 21st day of May, 2002.
Linda G. Poole,
Certifying Officer, Division of Trade Adjustment Assistance.

[FR Doc. 02-15433 Filed 6-18-02; 8:45 am]

BILLING CODE 4510-30-P